DEPARTMENT OF JUSTICE

Notice of Lodging of Consent Decree Under Comprehensive Environmental Response, Compensation and Liability Act

Notice is hereby given that on July 30, 2009, the proposed Consent Decree in United States v. MRC Holdings, Inc., Case No. 8:09-cv-01453-RAL-MAP, was lodged with the United States District Court for the Middle District of Florida.

The proposed Consent Decree resolves claims of the United States, on behalf of the Environmental Protection Agency (“EPA”), under the Comprehensive Environmental Response, Compensation, and Liability Act (“CERCLA”), 42 U.S.C. 9601 et seq., in connection with the MRI Superfund Site in Tampa, Hillsborough County, Florida (“Site”).

The proposed Consent Decree requires MRC Holdings, Inc. to perform EPA's estimated $6,700,000 groundwater remedial design/remedial action at the Site and reimburse in full EPA's interim and future costs for overseeing implementation of this remedy. A previous Consent Decree, entered by the Middle District of Florida on February 19, 2002, required MRC Holdings, Inc. to perform the estimated $2,130,111 soil cleanup at this Site and pay EPA's past costs of $700,000.

For a period of 30 days from the date of this publication, the Department of Justice will receive comments relating to the proposed Consent Decree. Comments should be addressed to the Assistant Attorney General of the Environment and Natural Resources Division, Department of Justice, Washington, DC 20530, and either e-mailed to pubcomment-ees.enrd@usdoj.gov or mailed to P.O. Box 7611, U.S. Department of Justice, Washington, DC 20044-7611. Comments should refer to: United States of America v. MRC Holdings, Inc., DJ # 90-11-2-07053/1.

The proposed Consent Decree may be examined on the following Department of Justice Web site, http://www.usdoj.gov/enrd/Consent_Decrees.html. Copies of the proposed Consent Decree may be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy of the proposed Consent Decree, please enclose a check in the amount of $23.23 for a copy exclusive of signature pages and appendices (25 cent per page reproduction cost) or $59.00 for a copy including signature pages and appendices (25 cent per page reproduction cost) payable to the U.S. Treasury, or, if by e-mail or fax, forward a check in that amount to the Consent Decree Library at the stated address.

Maureen Katz,
Assistant Section Chief, Environmental Enforcement Section, Environment and Natural Resources Division.

[FR Doc. E9-18759 Filed 8-5-09; 8:45 am]

BILLING CODE 4410-15-P